DEPARTMENT OF DEFENSE

Department of the Army; Corps of Engineers

Exchange of Government Property at Devens Reserve Forces Training Area to MassDevelopment for Future Development

AGENCY: U.S. Army Corps of Engineers, DoD.

ACTION: Notice.

SUMMARY: In accordance with 10 United States Code 2869, the Department of the Army intends to enter into an Exchange Agreement with MassDevelopment for the exchange of 13.57+/− acres of Government owned land at Devens Reserve Forces Training Area, Devens, Massachusetts, in exchange for renovations to several buildings at Devens Reserve Forces Training Area. The purpose of this notice is to effect the exchange pursuant to provisions of 10 U.S.C. 2869.

This is a partial transfer of the entire acreage located at the facility. Additional information is on file with the U.S. Army Engineer District, Corps of Engineers, Louisville, Kentucky.

FOR FURTHER INFORMATION CONTACT: Ms. Valerie Doss, 502-315-6979.

ADDRESSES: Documents are on file at U.S. Army Engineer District, Louisville, Corps of Engineers, P.O. Box 59, Louisville, Kentucky 40201-0059.

SUPPLEMENTARY INFORMATION: None.

Michael G. Barter,
Chief, Real Estate Division.

[FR Doc. E6-7643 Filed 5-18-06; 8:45 am]

BILLING CODE 3710-JB-P